DEPARTMENT OF HOUSING AND URBAN DEVELOPMENT

[Docket No. FR-5486-N-23]

Notice of Proposed Information Collection for Public Comment: Additional On-Site Data Collection for the Housing Choice Voucher Program Administrative Fee Study

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: December 19, 2011.

ADDRESSES: Interested persons are invited to submit comments regarding this proposal. Comments should refer to the proposal by name and/or OMB Control number and should be sent to: Reports Liaison Officer, Office of Policy Development & Research, Department of Housing and Urban Development, 451 7th Street, SW., Room 8226, Washington, DC 20410-5000.

FOR FURTHER INFORMATION CONTACT: Marina L. Myhre, (202) 402-5705 for copies of the proposed forms and other available documents. (This is not a toll-free number.)

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Housing Choice Voucher Program Administrative Fee Study.

Description of the need for the information and proposed use: This request is for the clearance of on-site data collection from public housing agencies (PHAs). The purpose of the proposed data collection is to identify a sample of PHAs that are verified to be operating high-performing and efficient HCV programs. The proposed data collection will take place through site visits to up to 30 PHAs and will include interviews with PHA staff and reviews of client files and administrative data collected by the PHA. The results of the site visits will be used to identify PHAs to participate in a national study of administrative fees in the HCV program. The national study of administrative fees will include 50 PHAs, some of which have already been identified through site visits that took place at 60 PHAs between April and September 2011. The current request is to conduct similar data collection at a new group of PHAs to supplement the national study sample. The results of the national study—for which separate OMB clearance will be sought—will be used to estimate administrative fees and develop a new administrative fee allocation formula for the HCV program.

OMB Approval Number: Pending.

Agency form numbers: None.

Members of Affected Public: Up to 150 public housing agency staff persons (up to 5 staff members at up to 30 sites).

Estimation of the total number of hours needed to prepare the information collection including number of respondents, frequency of response, and hours of response: Up to 5 PHA staff at each of the 30 study sites will be involved in the data collection (150 respondents total). Together, the PHA staff at each site will spend up to 12 hours preparing for the site visit and up to 16 hours being interviewed or otherwise assisting the research team during the site visit. The total burden for each PHA is 28 hours. The total estimated burden across all PHAs is 840 hours.

Status of the proposed information collection: Pending OMB approval.

Authority: Section 3506 of the Paperwork Reduction Act of 1995, 44 U.S.C. chapter 35, as amended.

Dated: October 11, 2011.
Raphael W. Bostic,
Assistant Secretary for Policy, Development and Research.

[FR Doc. 2011-26918 Filed 10-17-11; 8:45 am]

BILLING CODE 4210-67-P